NATIONAL AERONAUTICS AND SPACE ADMINISTRATION

[Notice (18-006)]

NASA Advisory Council; Aeronautics Committee; Meeting

AGENCY: National Aeronautics and Space Administration.

ACTION: Notice of meeting.

SUMMARY: In accordance with the Federal Advisory Committee Act, as amended, the National Aeronautics and Space Administration announces a meeting of the Aeronautics Committee of the NASA Advisory Council (NAC). The meeting will be held for the purpose of soliciting, from the aeronautics community and other persons, research and technical information relevant to program planning. This Committee reports to the NAC.

DATES: Wednesday, March 14, 2018, 9:00 a.m.-4:00 p.m., Local Time.

ADDRESSES: NASA Headquarters, Room 6E40, 300 E Street SW, Washington, DC 20546.

FOR FURTHER INFORMATION CONTACT: Ms. Irma Rodriguez, Executive Secretary for the NAC Aeronautics Committee, NASA Headquarters, Washington, DC 20546, (202) 358-0984, or irma.c.rodriguez@nasa.gov.

SUPPLEMENTARY INFORMATION: The meeting will be open to the public up to the capacity of the room. This meeting is also available telephonically and online via WebEx. Any interested person may dial the USA toll-free conference number 1-844-467-6272, passcode 317924, followed by the # sign, to participate in this meeting by telephone. The WebEx link is https://nasa.webex.com/, the meeting number is 995 710 031, and the password is T94G2Y3@. The agenda for the meeting includes the following topics:

• Advanced Materials and Structures Research

• Electric Aircraft Technology Development

• FY2019 Aeronautics Research Mission Directorate Budget and Strategy

Attendees will be requested to sign a register and to comply with NASA Headquarters security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, attendees that are U.S. citizens and Permanent Residents (green card holders) are requested to provide full name and citizenship status 3 working days in advance. Information should be sent to Ms. Irma Rodriguez, (202) 358-4060. For questions, please call Ms. Irma Rodriguez at (202) 358-0984. It is imperative that the meeting be held on these dates to the scheduling priorities of the key participants.

Patricia D. Rausch,
Advisory Committee Management Officer, National Aeronautics and Space Administration.

[FR Doc. 2018-02659 Filed 2-8-18; 8:45 am]

BILLING CODE 7510-13-P